DEPARTMENT OF ENERGY

Federal Energy Regulatory Commission

[Docket No. RP04-24-004]

Algonquin Gas Transmission Company; Notice of Compliance Tariff Sheet Filing

April 21, 2004.

Take notice that on April 19, 2004, Algonquin Gas Transmission Company (Algonquin) tendered for filing: (i) An original and five copies of the tariff sheets listed in Appendix A of the filing, as part of its FERC Gas Tariff, Fourth Revised Volume No. 1; (ii) three firm transportation service agreements with negotiated rates, effective March 1, 2004, included in Appendix B of the filing; and (iii) one interruptible service agreement with discounted and negotiated rates, effective January 1, 2005, included in Appendix B of the filing.

Algonquin states that the purpose of this filing is to implement tariff revisions and service agreements for transportation service to be rendered by Algonquin to USGen New England, Inc. (USGen) as part of a Settlement Agreement designed to resolve all issues between Algonquin and USGen in Case No. 03-30465 (PM) in the United States Bankruptcy Court for the District of Maryland (Greenbelt Division) as well as in FERC Docket Nos. RP04-24-000, et al. Algonquin states that while the effective dates of the revised tariff sheets and service agreements are proposed to be March 1, 2004, and January 1, 2005, the effectiveness of these proposed tariff sheets and the agreements is contingent upon the Settlement Agreement becoming effective, including the satisfaction of the conditions precedent contained in the Settlement Agreement. Algonquin requests that the Commission act on the instant filing at the same time as it acts on its April 19, 2004, motion to withdraw pleadings and terminate proceedings in this docket in Docket Nos. RP04-24-000, RP04-24-001, RP04-24-002 and RP04-24-003.

Algonquin states that copies of its filing have been mailed to all affected customers of Algonquin and interested State commissions.

Any person desiring to be heard or to protest said filing should file a comment or a protest with the Federal Energy Regulatory Commission, 888 First Street, NE., Washington, DC 20426, in accordance with sections 385.214 or 385.211 of the Commission's rules and regulations. All such comments or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “e-library”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-filing” link.

Comment Date: May 3, 2004.

Magalie R. Salas,
Secretary.

[FR Doc. E4-946 Filed 4-27-04; 8:45 am]

BILLING CODE 6717-01-P